DEPARTMENT OF AGRICULTURE

Food Safety and Inspection Service

9 CFR Part 381

[Docket No. 99-017E]

Classes of Poultry

AGENCY: Food Safety and Inspection Service, USDA.

ACTION: Proposed rule: reopening and extension of comment period.

SUMMARY: The Food Safety and Inspection Service (FSIS) is reopening and extending the comment period for the proposed rulemaking, “Classes of Poultry.” The comment period for the proposed rule closed on November 28, 2003. This action responds to a request from an industry trade association to allow additional time to comment on a specific issue raised in the preamble to the proposed rule.

DATES: Comments are due February 9, 2004.

ADDRESSES: Send one original and two copies of written comments to FSIS Docket No. 99-017P, Department of Agriculture, Food Safety and Inspection Service, Room 102, 300 12th Street, SW., Washington, DC 20250-3700.

FOR FURTHER INFORMATION CONTACT: Robert C. Post, Ph.D., Director, Labeling and Consumer Protection Staff, Office of Policy and Program Development, Food Safety and Inspection Service, U.S. Department of Agriculture, Washington, DC 20250-3700; (202) 205-0279

SUPPLEMENTARY INFORMATION: On September 29, 2003, FSIS published a proposed rule, “Classes of Poultry,” in the Federal Register (68 FR 55902). In that document, the Agency proposed to amend the definitions and standards for the official U.S. classes of poultry so that they more accurately and clearly describe the characteristics of poultry in the market today. Poultry classes are defined primarily in terms of the age and the sex of the bird. In the preamble to the proposed rule, FSIS requested, among other things, comments on whether the Agency should establish ready-to-cook carcass weights or maximum weights for certain poultry classes.

An industry trade association submitted a comment stating that this issue would require considerable consultation with various segments of the chicken industry. The commenter requested additional time to discuss the issue with the industry and to try to arrive at a consensus of workable market weights for certain chicken classes.

FSIS has considered the request and believes that the information that the commenter is interested in providing will be useful in informing the Agency's decision on whether to establish ready-to-cook market weights for certain poultry classes, and if so, what those weights should be. Therefore, the Agency will reopen and extend the comment period for the proposed rule for an additional 30 days. The Agency believes that this will provide additional time for comments to be made, while ensuring that the rulemaking proceeds in a timely manner. As a result of this reopening and extension, the comment period for the proposed rule will close on February 9, 2004.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC on January 5, 2004.
Garry L. McKee,
Administrator.

[FR Doc. 04-402 Filed 1-8-04; 8:45 am]

BILLING CODE 3410-DM-P